DEPARTMENT OF ENERGY

Federal Energy Regulatory Commission

[Docket No. CP01-437-000]

Northern Natural Gas Company; Notice of an Application

September 19, 2001.

Take notice that on August 29, 2001 Northern Natural Gas Company (Northern), 1111 South 103rd Street, Omaha, Nebraska 68124-1000, filed in Docket No. CP01-437-000, a request pursuant to Section 7(b) of the Natural Gas Act (NGA), as amended, and the Rules and Regulations of the Federal Energy Regulatory Commission (Commission), requesting permission and approval to abandon service under an individually certificated agreement, all as more fully set forth in the application which is on file with the Commission, and open to public inspection. Copies of this filing are on file with the Commission and are available for public inspection. This filing may also be viewed on the web at http://www.ferc.gov using the “RIMS” link, select “Docket#” and follow the instructions (call 202-208-2222 for assistance).

Specifically, Northern proposes to abandon service to Williams Gas Pipeline Central, Inc. (Williams) under Rate Schedule T-54, contained in its FERC Gas Tariff, Original Volume No. 2. Northern further states that the underlying contract has not provided service for several years and has been terminated in accordance with the contract terms.

Any questions regarding this application should be directed to Keith L. Petersen, Director, Certificates and Reporting for Northern, 111 South 103rd Street, Omaha, Nebraska 68124, at (402) 398-7421.

Any person desiring to be heard or to protest said filing should file a motion to intervene or a protest with the Federal Energy Regulatory Commission, 888 First Street, NE., Washington, DC 20426, in accordance with Sections 385.214 and 385.211 of the commission's Rules and Regulations. All such protests must be filed on or before October 10, 2001. Protests will be considered by the Commission in determining the appropriate action to be taken, but will not serve to make protestants parties to the proceedings. Any person wishing to become a party must file a motion to intervene. Copies of this filing are on file with the Commission and are available for public inspection. This filing may be viewed on the Commission's web site at http://www.ferc.gov using the “RIMS” link, select “Docket#” and follow the instructions ((202)208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23834 Filed 9-24-01; 8:45 am]

BILLING CODE 6717-01-M